DEPARTMENT OF HEALTH AND HUMAN SERVICES

National Institutes of Health

Office of the Secretary; Notice of Meeting

Pursuant to section 10(a) of the Federal Advisory Committee Act, as amended, notice is hereby given of a meeting of the Interagency Pain Research Coordinating Committee.

The meeting will be open to the public. Individuals who plan to participate and need special assistance, such as sign language interpretation or other reasonable accommodations, should notify the Contact Person listed below in advance of the meeting.

Name of Committee: Interagency Pain Research Coordinating Committee.

Date: June 16, 2020.

Time: 1:30 p.m. to 4:00 p.m.

Agenda: The meeting will cover committee business items and updates related to COVID19, the NIH HEAL Initiative, and the SUPPORT Act.

Call-In Number: 1-650-479-3208.

Public Access Code: 622 776 328.

Deadline: Submission of intent to submit written/electronic statement for comments: Tuesday, June 9th, by 5:00 p.m. ET

Place: National Institutes of Health, Building 31, 31 Center Drive, Bethesda, MD 20892 (Telephone Conference Call).

Contact Person: Linda L. Porter, PHD, Director, Office of Pain Policy and Planning. Office of the Director, National Institute of Neurological Disorders and Stroke, NIH, 31 Center Drive, Room 8A31, Bethesda, MD 20892, Phone: (301) 451-4460, Email: Linda.Porter@nih.gov.

Any interested person may file written comments with the committee by forwarding the statement to the Contact Person listed on this notice. The statement should include the name, address, telephone number and when applicable, the business or professional affiliation of the interested person.

The meeting will be open to the public for audio access through a telephone call in phone number. A link to view the WebEx presentation will be available on the IPRCC website http://iprcc.nih.gov prior to the meeting. Members of the public who participate using the conference call phone number will be able to listen to the meeting as attendees but will not be heard.

Dated: April 28, 2020.
Tyeshia M. Roberson,
Program Analyst, Office of Federal Advisory Committee Policy.

[FR Doc. 2020-09404 Filed 5-1-20; 8:45 am]

BILLING CODE 4140-01-P